DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: In accordance with the Federal Advisory Committee Act, this notice announces that the National Advisory Council on Nurse Education and Practice (NACNEP or Council) has scheduled a public meeting. Information about NACNEP, the agenda, and materials for this meeting can be found on the NACNEP website at https://www.hrsa.gov/advisory-committees/nursing/index.html.

DATES: November 5, 2019, 8:30 a.m.-4:00 p.m. Eastern Time (ET) and November 6, 2019, 8:30 a.m.-2:30 p.m. ET.

ADDRESSES: This meeting will be held by teleconference, and/or Adobe Connect webinar.

• Webinar link: https://hrsa.connectsolutions.com/nacnep/

• Conference call-in number: 1-888-455-4141 Passcode: FACA Meeting

FOR FURTHER INFORMATION CONTACT: Camillus Ezeike, Ph.D., JD, LLM, RN, CHC, CPHRM, Senior Advisor Division of Nursing and Public Health, Bureau of Health Workforce, HRSA, 5600 Fishers Lane, 11N-120, Rockville, Maryland 20857; 301-443-2866; or BHWNACNEP@hrsa.gov.

SUPPLEMENTARY INFORMATION: NACNEP provides advice and recommendations to the Secretary of HHS and the U.S. Congress on policy issues related to the activities carried out under Title VIII of the Public Health Service (PHS) Act, including the range of issues relating to the nurse workforce, education, and practice improvement. NACNEP also prepares and submits an annual report to the Secretary of HHS and Congress describing its activities, including NACNEP's findings and recommendations concerning activities under Title VIII, as required by the PHS Act.

During the November 5-6, 2019, meeting, NACNEP will welcome new members to the Council and discuss strategic priorities for nursing education and practice in preparation for the development of the Council's 17th Report to Congress. Agenda items are subject to change as priorities dictate. Refer to the NACNEP website for updated information concerning the November 2019 NACNEP meeting.

Members of the public will have the opportunity to provide comments. Public participants may submit written statements in advance of the scheduled meeting. Oral comments will be honored in the order they are requested and may be limited as time allows. Requests to submit a written statement or make oral comments to NACNEP should be sent to Camillus Ezeike using the contact information above at least 3 business days before the meeting date. Individuals who plan to attend and need special assistance or another reasonable accommodation should notify Camillus Ezeike at the address and phone number listed above at least 10 business days prior to the meeting.

Maria G. Button,
Executive Secretariat.

[FR Doc. 2019-21069 Filed 9-27-19; 8:45 am]

BILLING CODE 4165-15-P